DEPARTMENT OF STATE

[Public Notice: 11160]

Privacy Act of 1974; System of Records

AGENCY: Department of State.

ACTION: Rescindment of a System of Records Notice.

SUMMARY: The “Identity Management System (IDMS) Records, State-72”, which is being rescinded, contains information used to ensure the safety and security of Department of State facilities, systems, or information, and its occupants and users; verify that all persons entering federal facilities, using federal information resources, or accessing classified information are authorized to do so; and track and control PIV cards issued to persons entering and exiting the facilities, using systems, or accessing classified information.

DATES: On June 15, 2018, the Department of State published a notice in the Federal Register (83 FR 28058) that records in State-72 were being consolidated with “Security Records, State-36” into a single modified State-36 because the records and system purposes are substantially similar.

ADDRESSES: Questions can be submitted by mail, email, or by calling John C. Sullivan, the Senior Agency Official for Privacy, on (202) 647-6435. If mail, please write to: U.S Department of State, Office of Global Information Systems, A/GIS, Room 1417, 2201 C St. NW, Washington, DC 20520. If email, please address the email to the Senior Agency Official for Privacy, John C. Sullivan, at Privacy@state.gov. Please write “Identity Management System Records, State-72” on the envelope or the subject line of your email.

FOR FURTHER INFORMATION CONTACT: John C. Sullivan, Senior Agency Official for Privacy, U.S. Department of State, Office of Global Information Services, A/GIS, Room 1417, 2201 C St. NW, Washington, DC 20520 or by calling (202) 647-6435.

SUPPLEMENTARY INFORMATION: The records in “Identity Management System (IDMS) Records, State-72” (previously published at 71 FR 62653) were consolidated with “Security Records, State-36” (previously published at 80 FR 77691). The new SORN reflecting the consolidated systems of records “Security Records, State-36” was published at 83 FR 28058 on June 15, 2018.

SYSTEM NAME AND NUMBER:

Identity Management System (IDMS) Records, State-72.

HISTORY:

“Identity Management System (IDMS) Records, State-72” was previously published at 71 FR 62653 and “Security Records, State-36” was previously published at 80 FR 77691 before being modified and re-published at 83 FR 28058.

John C. Sullivan,
Senior Agency Official for Privacy,Deputy Assistant Secretary,Office of Global Information Services,Bureau of Administration,Department of State.

[FR Doc. 2020-16715 Filed 7-31-20; 8:45 am]

BILLING CODE 4710-24-P